DEPARTMENT OF AGRICULTURE

Forest Service

Sunken Moose Project; Chequamegon-Nicolet National Forest, Bayfield County, WI

AGENCY: Forest Service, USDA.

ACTION: Revised notice, intent to prepare an environmental impact statement.

SUMMARY: The Forest Service proposes to implement land management activities consistent with direction in the 1986 Chequamegon National Forest Land and Resource Management Plan. Activities are proposed on National Forest in an area called “Sunken Moose.” This notice revises the “responsible official” and updates expected statement dates.

DATES: The draft environmental impact statement is expected May 2003 and the final environmental impact statement is expected September 2003.

Responsible Official: This Notice revises the responsible official from Washburn District Ranger to: Anne F. Archie, Forest Supervisor, Chequamegon-Nicolet National Forest, Park Falls, Wisconsin.

ADDRESSES: Send written comments to Anne F. Archie, Forest Supervisor, Chequamegon-Nicolet National Forest, 1170 4th Avenue S, Park Falls, WI 54552.

FOR FURTHER INFORMATION CONTACT: Ray Kiewit, Project Leader, Washburn Ranger District, P.O. Box 578, Washburn, WI 54891 (phone 715/373-2667; or visit Sunken Moose Web site at www.fs.fed.us/r9,cnnf/natres/eis/wash/sunken_moose/index.html).

SUPPLEMENTARY INFORMATION: The original notice of intent to prepare the Sunken Moose environmental impact statement was published in the Federal Register on April 24, 2001 (Vol. 66, No. 79, page 20625, Tuesday, April 24, 2001/Notices). A revised notice of intent was published in the Federal Register on April 16, 2002 (Vol. 67, No. 73, Tuesday, April 16, 2002/Notices). The April 16, 2002 revision modified the purpose and need of the proposal.

Dated: May 8, 2003.
Anne F. Archie,
Forest Supervisor, Chequamegon-Nicolet National Forest, Park Falls, WI 54552.

[FR Doc. 03-12233 Filed 5-15-03; 8:45 am]

BILLING CODE 3410-11-M